DEPARTMENT OF STATE

[Delegation of Authority DA1-244]

Delegation of Duties, Functions and Responsibilities Vested in the Under Secretary of State for Management

By virtue of the authority vested in me as Under Secretary of State for Management, I hereby delegate, during periods of my absence, the duties functions and responsibilities vested in me as Under Secretary of State for Management to the following officials of the Department of State in an order as may be specified from time to time: Assistant Secretary for Administration; Assistant Secretary for Consular Affairs; Assistant Secretary for Diplomatic Security; Director General of the Foreign Service and Human Resources.

This delegation shall not include the duties, functions and responsibilities vested in me by Public Notice 802 dated April 14, 1982, as amended (relating to the designated order of succession to the Secretary of State), nor duties, functions, and responsibilities required by law to be exercised by higher authority than the delegate.

This delegation supersedes the Delegation of Authority on this subject dated March 6, 1998. This memorandum shall be published in the Federal Register.

Dated: April 25, 2001.
Grant S. Green, Jr.,
Under Secretary of State For Management, Department of State.

[FR Doc. 01-11014 Filed 5-1-01; 8:45 am]

BILLING CODE 4710-35-P